DEPARTMENT OF THE INTERIOR

National Park Service

[N6453; NPS-WASO-NAGPRA-NPS0040862; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of associated funerary objects and has determined that there is a cultural affiliation between the associated funerary objects and Indian Tribes or Native Hawaiian organizations in this notice.

DATES: Repatriation of the associated funerary objects in this notice may occur on or after September 17, 2025.

ADDRESSES: Send written requests for repatriation of the associated funerary objects in this notice to Dr. Thomas Torma, Repatriation Program Manager, The University of Kansas, Office of Audit, Risk, and Compliance, 1450 Jayhawk Boulevard, 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Objects associated with human remains previously listed in a Notice of Inventory Completion published in the Federal Register on April 30, 2025 (90 FR 17958) have been identified. The one associated funerary object includes one lot of artifacts. The items come from the Pawnee Indian Village Site, also known as the Kansas Monument Site (14RP1), which was occupied by the Kitkahahki Band of Pawnee from at least 1770 to 1830. Multiple excavations have taken place from 1926 to 2018, the items in this notice were excavated by Carlyle Smith in 1949. In 1971, the human remains associated with these funerary objects were brought to the University of Tennessee, Knoxville by Bill Bass.

To our knowledge, no potentially hazardous substances were used to treat any of these associated funerary objects.

Cultural Affiliation

Based on the information available and the results of consultation, cultural affiliation is reasonably identified by the geographical location or acquisition history of the associated funerary objects described in this notice.

Determinations

The University of Kansas has determined that:

• The one lot of objects described in this notice is reasonably believed to have been placed intentionally with or near individual human remains at the time of death or later as part of the death rite or ceremony.

• There is a connection between associated funerary objects described in this notice and the Kaw Nation, Oklahoma and the Pawnee Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after September 17, 2025. If competing requests for repatriation are received, the University of Kansas must determine the most appropriate requestor prior to repatriation. Requests for joint repatriation of the associated funerary objects are considered a single request and not competing requests. The University of Kansas is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15669 Filed 8-15-25; 8:45 am]

BILLING CODE 4312-52-P